ELECTION ASSISTANCE COMMISSION

Sunshine Act Notice

ACTION: Public meeting of the Technical Guidelines Development Committee.

SUMMARY: The Technical Guidelines Development Committee (TGDC) will meet in open session on Thursday, January 13, 2011 and Friday, January 14, 2011 at the National Institute of Standards and Technology (NIST) in Gaithersburg, Maryland.

DATES: The meeting will be held on Thursday, January 13, 2011, from 8:30 a.m. until 4:30 p.m., Eastern Time, and Friday, January 14, 2011 from 8:30 a.m. to 4:30 p.m., Eastern Time.

ADDRESSES: The meeting will take place at the National Institute of Standards and Technology (NIST), 100 Bureau Drive, Building 101, Gaithersburg, Maryland 20899-8900. Members of the public wishing to attend the meeting must notify Mary Lou Norris or Angela Ellis by c.o.b. Thursday, January 6, 2011, per instructions under the SUPPLEMENTARY INFORMATION section of this notice.

FOR FURTHER INFORMATION CONTACT: Nelson Hastings, NIST Voting Program, Information Technology Laboratory, National Institute of Standards and Technology, 100 Bureau Drive, Stop 8930, Gaithersburg, MD 20899-8930, telephone: (301) 975-5237.

SUPPLEMENTARY INFORMATION: Pursuant to the Federal Advisory Committee Act, 5 U.S.C. App., notice is hereby given that the TGDC will meet Thursday, January 13, 2011 from 8:30 a.m. to 4:30 p.m., Eastern time, and Friday, January 14, 2011 from 8:30 a.m. to 4:30 p.m., Eastern time. Topics that will be discussed at the meeting include UOCAVA (Uniformed and Overseas Citizens Absentee Voting Act), Auditability, and Usability and Accessibility issues. The full meeting agenda will be posted in advance at http://vote.nist.gov. All sessions of this meeting will be open to the public. A live Webcast of this meeting will be available at http://vote.nist.gov.

The TGDC was established pursuant to 42 U.S.C. 15361, to act in the public interest to assist the Executive Director of the Election Assistance Commission (EAC) in the development of voluntary voting system guidelines. Details regarding the TGDC's activities are available at http://vote.nist.gov.

All visitors to the National Institute of Standards and Technology site will have to pre-register to be admitted. Anyone wishing to attend this meeting must register by c.o.b. Thursday, January 6, 2011, in order to attend. Please submit your name, time of arrival, e-mail address and phone number to Mary Lou Norris or Angela Ellis, and they will provide you with instructions for admittance. Non-U.S. citizens must also submit their country of citizenship, title, employer/sponsor, and address. Mary Lou Norris' e-mail address is marylou.norris@nist.gov, and her phone number is (301) 975-2002. Angela Ellis' e-mail address is angela.ellis@nist.gov, and her phone number is (301) 975-3881.

If you are in need of a disability accommodation, such as the need for Sign Language Interpretation, please contact Nelson Hastings by c.o.b. Thursday, January 6, 2011.

Members of the public who wish to speak at this meeting may send a request to participate to Nelson Hastings by c.o.b. Thursday, January 6, 2011. Individuals and representatives of organizations who would like to offer comments and suggestions related to the Committee's affairs are invited to request a place on the agenda. On January 13, 2011, approximately 30 minutes will be reserved for public comments at the end of the open session. Speaking times will be assigned on a first-come, first-served basis. The amount of time per speaker will be determined by the number of requests received, but is likely to be no more than 3 to 5 minutes each. Participants who are chosen will receive confirmation from the contact listed above that they were selected by 12 p.m. Eastern time on Tuesday, January 11, 2011.

The general public, including those who are not selected to speak, may submit written comments, which will be distributed to TGDC members so long as they are received no later than 12 p.m. Eastern time on Tuesday, January 11, 2011. All comments will also be posted on http://vote.nist.gov.

Donetta Davidson,
Chair, U.S. Election Assistance Commission.

[FR Doc. 2010-31476 Filed 12-10-10; 4:15 pm]

BILLING CODE 6820-KF-P